DEPARTMENT OF AGRICULTURE

Commodity Credit Corporation

Natural Resources Conservation Service

Conservation Security Program; Correction

AGENCY: Natural Resources Conservation Service (NRCS) and Commodity Credit Corporation (CCC), USDA.

ACTION: Notice; Extension

SUMMARY: NRCS and CCC published in the Federal Register on April 10, 2008, (73 FR 19456), a document stating “Notice of the Conservation Security Program, (CSP-08-01) sign up.” This notice extends the sign-up period end date from May 16, 2008, to May 30, 2008, in the SUMMARY and SUPPLEMENTARY INFORMATION sections of the previously published document.

FOR FURTHER INFORMATION CONTACT: Dwayne Howard, Branch Chief—Stewardship Programs, Financial Assistance Programs Division, NRCS, Post Office Box 2890, Washington, DC 20013-2890; telephone: (202) 720-1845; fax: (202) 720-4265. Submit via e-mail to: dwayne.howard@wdc.usda.gov, with subject line of “Attention: Conservation Security Program.”

Signed in Washington, DC, on April 30, 2008.
Arlen L. Lancaster,
Chief, Natural Resources Conservation Service, Vice President, Commodity Credit Corporation.

[FR Doc. E8-10360 Filed 5-8-08; 8:45 am]

BILLING CODE 3410-16-P